DEPARTMENT OF JUSTICE

Antitrust Division

Notice Pursuant to the National Cooperative Research and Production Act of 1993—Vehicle Safety Communications 5 (VSC5) Consortium

Notice is hereby given that, on December 3, 2014, pursuant to section 6(a) of the National Cooperative Research and Production Act of 1993, 15 U.S.C. 4301 et seq. (“the Act”), Vehicle Safety Communications 5 (VSC5) Consortium (“VSC5 Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Ford Motor Company—Research and Innovation Center, Dearborn, MI; General Motors Company—Research and Development Center, Warren, MI; Honda R&D Americas, Inc., Southfield, MI; Hyundai-Kia America Technical Center, Inc., Superior Township, MI; Mazda Motor of America, Inc., Irvine, CA; Mercedes-Benz Research & Development North America, Inc., Sunnyvale, CA; Nissan Technical Center North America, Inc., Farmington Hills, MI; and Volkswagen/Audi of America, Auburn Hills, MI.

The general area of VSC5 Consortium's planned activity is to engage in a collaborative effort in order to gain further knowledge and understanding of connected vehicle interactions and/or applications for vehicles that are intended to transform surface safety and mobility through a connected vehicle environment.

Patricia A. Brink,
Director of Civil Enforcement, Antitrust Division.

[FR Doc. 2014-30674 Filed 12-30-14; 8:45 am]

BILLING CODE P